SMALL BUSINESS ADMINISTRATION

[Declaration of Disaster #3409]

Commonwealth of Virginia (Amendment # 1)

In accordance with a notice received from the Federal Emergency Management Agency, dated May 15, 2002, the above numbered declaration is hereby amended to include Bedford, Campbell, Cumberland, Greensville, Prince Edward and Shenandoah Counties and the Independent City of Bedford in the Commonwealth of Virginia as disaster areas due to damages caused by severe storms, tornadoes and flooding occurring on April 28, 2002 through May 3, 2002.

In addition, applications for economic injury loans from small businesses located in the following contiguous counties may be filed until the specified date at the previously designated location: Amelia, Amherst, Appomattox, Botetourt, Brunswick, Buckingham, Charlotte, Dinwiddie, Fluvanna, Franklin, Frederick, Goochland, Halifax, Lunenburg, Nottoway, Page, Pittsylvania, Powhatan, Roanoke, Rockbridge, Rockingham, Southampton, Sussex and Warren Counties in Virginia; Northampton County in North Carolina; and Hardy County in West Virginia.

The economic injury number assigned to North Carolina is 9P7500.

All other information remains the same, i.e., the deadline for filing applications for physical damage is July 4, 2002, and for economic injury the deadline is February 5, 2003.

(Catalog of Federal Domestic Assistance Program Nos. 59002 and 59008)

Dated: May 16, 2002.
Herbert L. Mitchell,
Associate Administrator for Disaster Assistance.

[FR Doc. 02-12881 Filed 5-22-02; 8:45 am]

BILLING CODE 8025-01-P